DEPARTMENT OF ENERGY

Federal Energy Regulatory Commission

[Docket No. IC24-20-000]

Commission Information Collection Activities FERC-917 and FERC-918; Consolidated Comment Request; Extension

AGENCY: Federal Energy Regulatory Commission.

ACTION: Notice of information collections and request for comments.

SUMMARY: In compliance with the requirements of the Paperwork Reduction Act of 1995, the Federal Energy Regulatory Commission (Commission or FERC) is soliciting public comment on the currently approved information collections, FERC-917 (Electric Transmission Facilities) and FERC-918 (Standards for Business Practices and Communication Protocols for Public Utilities), both under OMB Control No. 1902-0233.

DATES: Comments on the collections of information are due August 6, 2024.

ADDRESSES: You may submit copies of your comments (identified by Docket No. IC24-20-000 and the specific FERC collection number (FERC-917 and/or FERC-918) by one of the following methods:

Electronic filing through http://www.ferc.gov, is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (including courier) Delivery: Deliver to: Federal Energy Regulatory Commission, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Jean Sonneman may be reached by email at DataClearance@FERC.gov, telephone at (202) 502-6362.

SUPPLEMENTARY INFORMATION:

Title: FERC-917, Electric Transmission Facilities and FERC-918, Standards for Business Practices and Communication Protocols for Public Utilities.

OMB Control No.: 1902-0233.

Type of Request: Three-year extension of the FERC-917 and FERC-918 information collection requirements with no changes to the reporting requirements.

Type of Respondents: Public utilities transmission providers.

Abstract: The information collection requirements in the FERC 917 and 918 include posting requirements in compliance with Federal Power Act sections 206. Furthermore, the requirements for posting are described in the Commission's pro forma Open Access Transmission Tariff (OATT) that is prescribed by 18 CFR 35.28 to ensure non-discriminatory practices in electric energy systems and markets. Additionally, the specifications to posting information and standards that must be followed are outlined in 18 CFR part 37 (Open Access Same Time Information System (OASIS)) and part 38 (Standards for Public Utility Business Operations and Communications) of the Commission's regulations.

The FERC 917 and 918 information collections specifically contain the burden related to gathering and posting information (on OASIS) as specified in the OATT ¹ and the burden related to complying with standards that are described by the North American Energy Standards Board (NAESB).²

¹ The requirements for OASIS were established in FERC order 888 and 889. Later, in FERC Order 1000-A, the FERC Information Collection under OMB control no. 1902-0233 was created.

² 18 CFR part 38

This notice and information collection request pertains to the extension of the existing requirements with no change to the reporting requirements.³

³ There is a separate docket no. (RM21-17) that is revising the OATT at this time. To reduce confusion between the revision and the extension, the Commission is issuing this notice for the extension to requirements that are not being revised in the separate rulemaking effort.

Estimate of Annual Burden: ⁴ The Commission estimates the annual public reporting burden for the information collection to remain consistent with the previous estimate. However, the Commission has updated the number of respondents with a more current estimate.

⁴ Burden is defined as the total time, effort, or financial resources expended by persons to generate, maintain, retain, or disclose or provide information to or for a Federal agency. For further explanation of what is included in the information collection burden, refer to 5 CFR part 1320.

⁵ The Commission staff estimates that the average respondent for this collection is similarly situated to the Commission, in terms of salary plus benefits. Based on FERC's 2024 annual average of $207,786 (for salary plus benefits), the average hourly cost is $100/hour.

FERC-917 (Electric Transmission Facilities) and FERC-918 (Standards for Business Practices and Communication Protocols for Public Utilities)
| Number of respondents | Annual number of responses per respondent | Annual number of responses | Average annual burden hours & cost ⁵ per response ($) | Total average annual burden hours & total annual cost ($) | Average annual cost per respondent ($)
| (1) | (2) | (1) * (2) = (3) | (4) | (3) * (4) = (5) | (5) ÷ (1) = (6)
FERC-917 & FERC-918
Non-Discriminatory Open Access Transmission Tariff (reporting) | 162 | 1 | 162 | 566 hrs.; $56,600 | 91,692 hrs.; $9,169,200 | $56,600
Open Access Transmission Tariff (record keeping) | 162 | 1 | 162 | 10 hrs.; $1000 | 1,620 hrs.; $162,000 | 1,000
Information to be posted on the OASIS and Auditing Transmission service (reporting) | 162 | 1 | 162 | 376 hrs.; $37,600 | 60,912 hrs.; $6,091,200 | 37,600
Information to be posted on the OASIS and Auditing Transmission service (record keeping) | 162 | 1 | 162 | 45 hrs.; $4,500 | 7,290 hrs.; $6,091,200 | 4,500
Total |  |  |  |  | 161,514 hrs.; $16,151,400 |

Comments: Comments are invited on: (1) whether the collections of information is necessary for the proper performance of the functions of the Commission, including whether the information will have practical utility; (2) the accuracy of the agency's estimate of the burden and cost of the collections of information, including the validity of the methodology and assumptions used; (3) ways to enhance the quality, utility and clarity of the information collections; and (4) ways to minimize the burden of the collections of information on those who are to respond, including the use of automated collection techniques or other forms of information technology.

Dated: June 3, 2024.
Debbie-Anne A. Reese,
Acting Secretary.

[FR Doc. 2024-12545 Filed 6-6-24; 8:45 am]

BILLING CODE 6717-01-P